ENVIRONMENTAL PROTECTION AGENCY

[EPA-HQ-OPP-2004-0340; FRL-8364-7]

Disulfoton; Notice of Receipt of Requests to Voluntarily Amend to Terminate Uses of Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by the registrant to amend their registrations to terminate certain uses of products containing the pesticide disulfoton. The request would terminate disulfoton use in or on barley and wheat. The request would also terminate the use of the 15% granular formulation of disulfoton, Di-Syston 15G, (EPA Reg. No. 264-723) on broccoli and ornamentals (commercial uses). Additionally, the request would terminate the use of Di-Syston 15G and the emulsifiable concentrate formulation of disulfoton, Di-Syston 8 EC, (EPA Reg. No. 264-734) on potatoes. The registrant's request includes amending the disulfoton technical product registration (EPA Reg. No. 264-725) to terminate potato, barley, and wheat uses. The request would not terminate the last disulfoton products registered for use in the United States. EPA intends to grant this request at the close of the comment period for this announcement unless the Agency receives substantive comments within the comment period that would merit its further review of the request, or unless the registrant withdraws the request within this period. Upon acceptance of this request, any sale, distribution, or use of products listed in this notice will be permitted only if such sale, distribution, or use is consistent with the terms as described in the final order.

DATES: Comments must be received on or before June 20, 2008.

ADDRESSES: Submit your comments, identified by docket identification (ID) number EPA-HQ-OPP-2004-0340, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2004-0340. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Eric Miederhoff, Special Review and Reregistration Division (7508P), Office of Pesticide Programs, Environmental Protection Agency, 1200 Pennsylvania Ave., NW., Washington, DC 20460-0001; telephone number: (703) 347-8028; fax number: (703) 308-7070; e-mail address: miederhoff.eric@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Request to Amend Registrations to Terminate Uses

This notice announces receipt by EPA of a request from Bayer CropSciences to amend three disulfoton product registrations to terminate certain uses. In a letter dated November 8, 2007, Bayer CropSciences confirmed their intention to cancel Di-Syston 15G (EPA Reg. No. 264-723) use on broccoli. The 2002 disulfoton Reregistration Eligibility Decision (RED) determined that disulfoton uses on barley, wheat, and potatoes were ineligible for reregistration and were to be phased out by June 2005. Additionally, the Di-Syston 15G use on ornamentals (commercial use) was to be phased out by June 2005. These phase outs were necessary to mitigate drinking water, occupational, and ecological risks. This notice and subsequent order will finalize these phase-outs. These uses have been removed from their respective end-use product labels and Bayer CropSciences acknowledged their cancellation in letters dated November 16, 2007 and January 24 and February 5, 2008. Bayer CropScience disulfoton products that had been registered for use on barley, wheat, and potatoes included Di-Syston 15G (EPA Reg. No. 264-723), Di-Syston 8 EC (EPA Reg. No. 264-734), and the disulfoton technical product (EPA Reg. No. 264-725). The termination of the subject uses for this Notice will not terminate the last disulfoton end-use products registered in the United States.

III. What Action is the Agency Taking?

This notice announces receipt by EPA of a request from a registrant to amend product registrations to terminate certain uses of disulfoton. The affected products and the registrant making the request are identified in Tables 1 and 2 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

Bayer CropSciences, the disulfoton technical registrant, has requested that EPA waive the 180-day comment period. EPA will provide a 30-day comment period on the proposed requests.

Unless a request is withdrawn by the registrant within 30 days of publication of this notice, or if the Agency determines that there are substantive comments that warrant further review of this request, an order will be issued canceling and amending the affected registrations.

Table 1. — Disulfoton Product Registrations with Pending Requests for Amendment
Registration Number | Product Name | Delete From Label | Company
264-723 | Di-Syston 15G | Broccoli, Potato, Wheat, Barley, Ornamentals (commercial uses) | Bayer CropSciences
264-734 | Di-Syston 8 EC | Potato, Wheat, Barley | Bayer CropSciences
264-725 | Di-Syston Technical | Potato, Wheat, Barley | Bayer CropSciences

Table 2 of this unit includes the name and address of record for the registrant of the products listed in Table 1 of this unit.

Table 2. — Registrant Requesting Voluntary Cancellation and/or Amendments
EPA Company Number | Company Name and Address
264 | Bayer CropSciences, 2 T.W. Alexander Drive, Research Triangle Park, NC 27709

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Procedures for Withdrawal of Request and Considerations for Reregistration of Disulfoton

Registrants who choose to withdraw a request for cancellation must submit such withdrawal in writing to the person listed under FOR FURTHER INFORMATION CONTACT, postmarked before June 20, 2008. This written withdrawal of the request for cancellation will apply only to the applicable FIFRA section 6(f)(1) request listed in this notice. If the products(s) have been subject to a previous cancellation action, the effective date of cancellation and all other provisions of any earlier cancellation action are controlling.

VI. Provisions for Disposition of Existing Stocks

In response to this request for termination of certain uses, the Agency proposes to issue an order which would include the following provisions for the treatment of any existing stocks of the products identified or referenced in Table 1. If the request for voluntary termination of certain uses is granted as discussed in unit 3, the Agency intends to issue a cancellation order that would allow the registrant to sell and distribute such existing stocks for six months from the date of the cancellation order and allow persons other than the registrant to continue to sell and/or use existing stocks of products with previously approved labeling that includes the discontinued uses, until such stocks are exhausted, provided that such use is consistent with the terms of the previously approved labeling on, or that accompanied, the associated products. Generally, orders effecting requested cancellations permit a registrant to sell or distribute existing stocks for one year after the date the cancellation request was received. In this case however, the Agency has determined that six months will allow sufficient time for the registrant to sell or distribute existing stocks. The decision to phase out disulfoton usage on wheat, barley, and potatoes by 2005 was announced in the 2002 RED. The technical registrant initially announced their voluntary cancellation of Di-Syston 15G use on broccoli in a letter dated September 30, 2004. Given the amount of time that has elapsed since these events, the Agency has determined it is unnecessary to provide the registrant one year to sell or distribute existing stocks. Consequently, the cancellation order will permit the registrant to sell or distribute existing stocks for six months after the date the cancellation order is issued. This policy is in accordance with the Agency's statement of policy as prescribed in the Federal Register of June 26, 1991 (56 FR 29362) (FRL-3846-4). Exceptions to this general rule will also be made if a product poses a risk concern, or is in noncompliance with reregistration requirements, or is subject to a data call-in. In all cases, product-specific disposition dates will be given in the cancellation orders. The Agency intends to publish the final cancellation order in the Federal Register.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical

.

List of Subjects

Environmental protection, Pesticides and pests.

Dated: May 13, 2008.
Peter Caulkins,
Acting Director, Special Review and Reregistration Division, Office of Pesticide Programs.

[FR Doc. E8-11325 Filed 5-20-08; 8:45 am]

BILLING CODE 6560-50-S